SECURITIES AND EXCHANGE COMMISSION

[File No. 500-1]

Order of Suspension of Trading; In the Matter of Alyn Corp., American HealthChoice, Inc., American Holding Investments, Inc., American Midland Corp., American Millennium Corp., American Pallet Leasing, Inc., American Patriot Funding, Inc. (f/k/a Referral Holdings Corp.), American Quantum Cycles, Inc., American Stellar Energy, Inc. (n/k/a Tara Gold Resources Corp.), Americare Health Scan, Inc. (f/k/a United Products International, Inc.), Amnex, Inc., and Amwest Environmental Group, Inc.

May 6, 2010.

It appears to the Securities and Exchange Commission that there is a lack of current and accurate information concerning the securities of Alyn Corp. because it has not filed any periodic reports since the period ended March 31, 2000.

It appears to the Securities and Exchange Commission that there is a lack of current and accurate information concerning the securities of American HealthChoice, Inc. because it has not filed any periodic reports since the period ended June 30, 2006.

It appears to the Securities and Exchange Commission that there is a lack of current and accurate information concerning the securities of American Holding Investments, Inc. because it has not filed any periodic reports since the period ended December 31, 2004.

It appears to the Securities and Exchange Commission that there is a lack of current and accurate information concerning the securities of American Midland Corp. because it has not filed any periodic reports since the period ended December 31, 2000.

It appears to the Securities and Exchange Commission that there is a lack of current and accurate information concerning the securities of American Millennium Corp. because it has not filed any periodic reports since the period ended April 30, 2003.

It appears to the Securities and Exchange Commission that there is a lack of current and accurate information concerning the securities of American Pallet Leasing, Inc. because it has not filed any periodic reports since the period ended March 31, 2006.

It appears to the Securities and Exchange Commission that there is a lack of current and accurate information concerning the securities of American Patriot Funding, Inc. (f/k/a Referral Holdings Corp.) because it has not filed any periodic reports since the period ended June 30, 2001.

It appears to the Securities and Exchange Commission that there is a lack of current and accurate information concerning the securities of American Quantum Cycles, Inc. because it has not filed any periodic reports since the period ended July 31, 2000.

It appears to the Securities and Exchange Commission that there is a lack of current and accurate information concerning the securities of American Stellar Energy, Inc. (n/k/a Tara Gold Resources Corp.) because it has not filed any periodic reports since September 30, 2007.

It appears to the Securities and Exchange Commission that there is a lack of current and accurate information concerning the securities of Americare Health Scan, Inc. (f/k/a United Products International, Inc.) because it has not filed any periodic reports during the following periods: Since the period ended September 30, 2008; from the period ended March 31, 2004 through the period ended December 31, 2005; and from the period ended December 31, 1997 through the period ended June 30, 2001.

It appears to the Securities and Exchange Commission that there is a lack of current and accurate information concerning the securities of Amnex, Inc. because it has not filed any periodic reports since March 31, 1999.

It appears to the Securities and Exchange Commission that there is a lack of current and accurate information concerning the securities of Amwest Environmental Group, Inc. because it has not filed any periodic reports since May 31, 1997.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 6, 2010, through 11:59 p.m. EDT on May 19, 2010.

By the Commission.
Jill M. Peterson,
Assistant Secretary.

[FR Doc. 2010-11111 Filed 5-6-10; 11:15 am]

BILLING CODE 8010-01-P